DEPARTMENT OF ENERGY

Federal Energy Regulatory Commission

[Project No. 14422-000]

Water Asset Management, Inc.; Notice of Preliminary Permit Application Accepted for Filing and Soliciting Comments, Motions To Intervene, and Competing Applications

On June 6, 2012, Water Asset Management, Inc., New York, filed an application for a preliminary permit, pursuant to section 4(f) of the Federal Power Act (FPA), proposing to study the feasibility of the Winnemucca Farms East Pumped Storage Project to be located on the Humboldt River near the town of Paradise Valley, the Humboldt County, Nevada. The project would affect federal lands administered by the Bureau of Land Management. The sole purpose of a preliminary permit, if issued, is to grant the permit holder priority to file a license application during the permit term. A preliminary permit does not authorize the permit holder to perform any land-disturbing activities or otherwise enter upon lands or waters owned by others without the owners' express permission.

The proposed project would consist of the following: (1) A 7,352-acre-foot upper reservoir, formed by a 250-foot-high, rockfill earthwork impoundment, with a total storage capacity of 5,700 acre-feet and a water surface area of 88 acres at full pool elevation of 5,430 feet above mean sea level (msl); (2) a 9,680-acre-foot lower reservoir, formed by an 80-foot-high, rockfill earthwork impoundment, with a total storage capacity of 8,900 acre-feet and a water surface area of 157 acres at full pool elevation of 4,570 feet msl; (3) a concrete-lined penstock furcating upstream of the powerhouse to steel-lined penstocks connecting to the pumping units, and a concrete-lined tailrace connecting to the lower reservoir; (4) an underground powerhouse, with vertical Francis-type single-stage pump-turbines totaling 400 megawatts (MW) (2 units × 200 MW) of generating capacity. The annual energy output would be approximately 237,120 megawatt hours. Interconnection would be provided at either: (1) A 25-mile-long, overhead single-circuit 345-kilovolt line owned by subsidiaries of NV Energy, Inc.; or (2) construct a local substation to allow for a joint connection with the sister Winnemucca Farms West site project.¹

¹ Water Asset Management, Inc. Winnemucca Farms West Pump Storage Project, FERC Project No. 14414-000.

Applicant Contact: Disque Dean, Jr., Water Asset Management, Inc., 509 Madison Avenue, Suite 804, New York, NY 10022; phone (212) 754-5101.

FERC Contact: Brian Csernak; phone: (202) 502-6144.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-14422) in the docket number field to access the document. For assistance, contact FERC Online Support.

Dated: August 8, 2012.
Kimberly D. Bose,
Secretary.

[FR Doc. 2012-19865 Filed 8-13-12; 8:45 am]

BILLING CODE 6717-01-P